INTERNATIONAL TRADE COMMISSION

[Investigation Nos. 701-TA-620 and 731-TA-1445 (Review)]

Wooden Cabinets and Vanities From China; Determinations

On the basis of the record ¹ developed in the subject five-year reviews, the United States International Trade Commission (“Commission”) determines, pursuant to the Tariff Act of 1930 (“the Act”), that revocation of the countervailing and antidumping duty orders on wooden cabinets and vanities from China would be likely to lead to continuation or recurrence of material injury to an industry in the United States within a reasonably foreseeable time.

¹ The record is defined in § 207.2(f) of the Commission's Rules of Practice and Procedure (19 CFR 207.2(f)).

Background

The Commission instituted these reviews on March 3, 2025 (90 FR 11059) and determined on June 6, 2025, that it would conduct expedited reviews (90 FR 36070, July 31, 2025).

The Commission made these determinations pursuant to section 751(c) of the Act (19 U.S.C. 1675(c)). It completed and filed its determinations in these reviews on September 5, 2025. The views of the Commission are contained in USITC Publication 5661 (September 2025), entitled Wooden Cabinets and Vanities from China: Investigation Nos. 701-TA-620 and 731-TA-1445 (Review).

By order of the Commission.
Issued: September 5, 2025.
Susan D. Orndoff,
Supervisory Attorney.

[FR Doc. 2025-17301 Filed 9-8-25; 8:45 am]

BILLING CODE 7020-02-P